DEPARTMENT OF HEALTH AND HUMAN SERVICES

National Institutes of Health

Notice of Establishment

Pursuant to the Federal Advisory Committee Act, as amended (5 U.S.C. Appendix 2), the Director, National Institutes of Health (NIH), announces the establishment of the National Commission on Digestive Diseases (Commission).

This Commission shall conduct an overview of the state-of-the-science in the field of digestive diseases research and develop a long-range plan for digestive diseases research consistent with the research mission of NIH. The overall plan will focus on the goal of improving the health of the nation through digestive diseases research and will include specific objectives and goals and a recommended time line for their implementation. Recommendations shall be made to the Director, NIH and to Congress.

The Commission shall be composed of 16 members appointed by the Director, NIH and 18 nonvoting ex officio members. Of the appointed members, who shall have a broad diversity of scientific and professional experience, 12 shall be knowledgeable about digestive diseases as members of academic or medical research and practice communities involved in digestive diseases research, including individuals in allied health specialties relevant to digestive diseases research. Four members shall be appointed who have close personal or family experience with digestive diseases or experience with patient-oriented organizations in digestive diseases.

Unless renewed by appropriate action prior to its expiration, the Charter for the National Commission on Digestive Diseases will expire two years from the date of establishment.

Dated: August 16, 2005.
Elias A. Zerhouni,
Director, National Institutes of Health.

[FR Doc. 05-17012 Filed 8-25-05; 8:45 am]

BILLING CODE 4140-01-M